OFFICE OF PERSONNEL MANAGEMENT

Civil Service Retirement System Board of Actuaries Meeting

AGENCY: Office of Personnel Management.

ACTION: Notice of meeting.

SUMMARY: The Civil Service Retirement System Board of Actuaries plans to meet on Friday, July 8, 2016. The meeting will start at 10:00 a.m. EDT and will be held at the U.S. Office of Personnel Management (OPM), 1900 E Street NW., Room 1350, Washington, DC 20415.

The purpose of the meeting is for the Board to review the actuarial methods and assumptions used in the valuations of the Civil Service Retirement and Disability Fund (CSRDF).

Agenda

1. Summary of recent and proposed legislation and regulations;

2. Review of actuarial assumptions.

Persons desiring to attend this meeting of the Civil Service Retirement System Board of Actuaries, or to make a statement for consideration at the meeting, should contact OPM at least 5 business days in advance of the meeting date at the address shown below. The manner and time for any material presented to the Board may be limited.

FOR FURTHER INFORMATION CONTACT: Gregory Kissel, Senior Actuary for Retirement Programs, U.S. Office of Personnel Management, 1900 E Street NW., Room 4316, Washington, DC 20415. Phone (202) 606-0722 or email at actuary@opm.gov.

For the Board of Actuaries.
Beth F. Cobert,
Acting Director.

[FR Doc. 2016-06550 Filed 3-22-16; 8:45 am]

BILLING CODE 6325-63-P